ADVISORY COUNCIL ON HISTORIC PRESERVATION

Notice of Meeting; Advisory Council on Historic Preservation

AGENCY: Advisory Council on Historic Preservation.

ACTION: Notice of meeting.

SUMMARY: Notice is hereby given that the Advisory Council on Historic Preservation (ACHP) will meet Thursday, December 2, 2010. The meeting will be held in Room MO9 of the Old Post Office Building, 1100 Pennsylvania Ave, NW., Washington, DC at 9 a.m.

The ACHP was established by the National Historic Preservation Act of 1966 (16 U.S.C. 470 et seq.) to advise the President and Congress on national historic preservation policy and to comment upon Federal, federally assisted, and federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-Federal members appointed by the President.

Call to Order—9 a.m.

I. Chairman's Welcome

II. Chairman's Report

III. Executive Director's Report

IV. Native American Activities

A. Native American Program Report

1. HUD Delegation of Tribal Consultation Responsibilities

2. DOI-DoD-ACHP Memorandum of Understanding on Consultation with Native Hawaiians

B. Native American Advisory Group

V. Strategic Planning: Next Steps

VI. Sustainability and Historic Preservation Task Force

VII. Preservation Initiatives Committee

A. America's Great Outdoors Initiative and Historic Preservation

B. Economic Benefits Study

C. Legislation

VIII. Federal Agency Programs Committee

A. Historic Preservation and Energy Development Working Group

B. National Trust Section 106 Report

C. Section 106 Update

IX. Communications, Education, and Outreach Committee

A. Engaging Youth in Historic Preservation

B. New Directions for ACHP Awards Programs

X. New Business

XI. Adjourn

Note: The meetings of the ACHP are open to the public.

If you need special accommodations due to a disability, please contact the Advisory Council on Historic Preservation, 1100 Pennsylvania Avenue, NW., Room 803, Washington, DC, 202-606-8503, at least seven (7) days prior to the meeting. For further information: Additional information concerning the meeting is available from the Executive Director, Advisory Council on Historic Preservation, 1100 Pennsylvania Avenue, NW., #803, Washington, DC 20004.

Dated: November 16, 2010.
John M. Fowler,
Executive Director.

[FR Doc. 2010-29355 Filed 11-19-10; 8:45 am]

BILLING CODE 4310-K6-M